DEPARTMENT OF TRANSPORTATION

Federal Aviation Administration

14 CFR Part 39

[Docket No. FAA-2006-24104; Directorate Identifier 2005-NM-231-AD]

RIN 2120-AA64

Airworthiness Directives; Airbus Model A310-200 and -300 Series Airplanes

AGENCY: Federal Aviation Administration (FAA), Department of Transportation (DOT).

ACTION: Notice of proposed rulemaking (NPRM).

SUMMARY: The FAA proposes to adopt a new airworthiness directive (AD) for certain Airbus Model A310-200 and -300 series airplanes. This proposed AD would require repetitive inspections for cracking of the flap transmission shafts, and replacing the transmission shafts if necessary. This proposed AD also would provide an optional terminating action for the repetitive inspections. This proposed AD results from reports of longitudinal cracks due to stress corrosion in the transmission shafts between the power control unit (PCU) and the torque limiters of the flap transmission system. We are proposing this AD to detect and correct cracking of the flap transmission shaft, which could compromise shaft structural integrity and lead to a disabled flap transmission shaft and reduced controllability of the airplane.

DATES: We must receive comments on this proposed AD by April 10, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Airbus, 1 Rond Point Maurice Bellonte, 31707 Blagnac Cedex, France, for service information identified in this proposed AD.

FOR FURTHER INFORMATION CONTACT: Thomas Stafford, Aerospace Engineer, International Branch, ANM-116, FAA, Transport Airplane Directorate, 1601 Lind Avenue, SW., Renton, Washington 98055-4056; telephone (425) 227-1622; fax (425) 227-6590.

SUPPLEMENTARY INFORMATION:

Comments Invited

We invite you to submit any relevant written data, views, or arguments regarding this proposed AD. Send your comments to an address listed in the ADDRESSES section. Include the docket number “FAA-2006-24104; Directorate Identifier 2005-NM-231-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The Direction Générale de l'Aviation Civile (DGAC), which is the airworthiness authority for France, notified us that an unsafe condition may exist on certain Airbus Model A310-200 and -300 series airplanes. The DGAC advises that reports have been received of longitudinal cracks due to stress corrosion in the transmission shafts between the power control unit and the torque limiters of the flap transmission system. This condition, if not corrected, could result in cracking of the flap transmission shafts, which could compromise shaft structural integrity and lead to a disabled flap transmission shaft and reduced controllability of the airplane.

Relevant Service Information

Airbus has issued Service Bulletin A310-27-2092, Revision 02, dated April 11, 2005. The service bulletin describes procedures for performing repetitive detailed inspections for stress corrosion cracking of the flap transmission shafts and replacing the transmission shafts with new or reconditioned shafts if necessary. Accomplishing the actions specified in the service information is intended to adequately address the unsafe condition. The DGAC mandated the service information and issued French airworthiness directive F-2005-174, dated October 26, 2005, to ensure the continued airworthiness of these airplanes in France.

Service Bulletin A310-27-2092, Revision 02, refers to Lucas Liebherr Service Bulletin 551A-27-624, Revision 1, dated August 18, 2000, as an additional source of service information for accomplishing the specified inspections.

Service Bulletin A310-27-2092, Revision 02, refers to Airbus Service Bulletin A310-27-2095, dated March 29, 2000, as a source of service information for replacing the flap transmission shafts. Accomplishing the actions specified by Service Bulletin A310-27-2095 would terminate the inspections required by this proposed AD.

Service Bulletin A310-27-2095 refers to Lucas Liebherr Service Bulletin 551A-27-M551-05, dated January 12, 2000, as an additional source of service information for replacing the flap transmission shafts.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for airplanes of this type design that are certificated for operation in the United States.

Therefore, we are proposing this AD, which would require accomplishing the actions specified in the Airbus service information described previously, except as discussed under “Difference Between French Airworthiness Directive and This Proposed AD.”

Difference Between French Airworthiness Directive and This Proposed AD

The applicability of French airworthiness directive F-2005-174 excludes airplanes on which Airbus Service Bulletin A310-27-2095 was accomplished in service. However, we have not excluded those airplanes in the applicability of this proposed AD; rather, this proposed AD includes a requirement to accomplish the actions specified in that service bulletin. This requirement would ensure that the actions specified in the service bulletin and required by this proposed AD are accomplished on all affected airplanes. Operators must continue to operate the airplane in the configuration required by this proposed AD unless an alternative method of compliance is approved. This difference has been coordinated with the DGAC.

Clarification of Compliance Time

French airworthiness directive F-2005-174 states, “If necessary, replace any defective shaft before the next flight * * *” However, we have determined that the words “if necessary” could be taken to mean that, when discovered, some defects might not be considered severe enough to require replacing the transmission shaft before further flight. Therefore, this proposed AD does not use the words “if necessary”, but would require any defective shaft to be replaced before further flight.

Costs of Compliance

This proposed AD would affect about 59 airplanes of U.S. registry. The proposed inspections would take about 1 work hour per airplane, at an average labor rate of $65 per work hour. Based on these figures, the estimated cost of the proposed AD for U.S. operators is $3,835 or $65 per airplane, per inspection cycle.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Airbus: Docket No. FAA-2006-24104; Directorate Identifier 2005-NM-231-AD.

Comments Due Date

(a) The FAA must receive comments on this AD action by April 10, 2006.

Affected ADs

(b) None.

Applicability

(c) This AD applies to Airbus Model A310-203, -204, -221, -222, -304, -322, -324, and -325 airplanes, certificated in any category; except for airplanes on which Airbus Modification 12247 has been embodied in production.

Unsafe Condition

(d) This AD results from reports of longitudinal cracks due to stress corrosion in the transmission shafts between the power control unit (PCU) and the torque limiters of the flap transmission system. We are issuing this AD to detect and correct cracking of the flap transmission shaft, which could compromise shaft structural integrity and lead to a disabled flap transmission shaft and reduced controllability of the airplane.

Compliance

(e) You are responsible for having the actions required by this AD performed within the compliance times specified, unless the actions have already been done.

Inspection and Corrective Action

(f) At the earlier of the compliance times specified in paragraph (f)(1) or (f)(2) of this AD: Perform a detailed inspection for stress corrosion cracking of the flight transmission shafts located between the PCU and the torque limiters in accordance with the Accomplishment Instructions of Airbus Service Bulletin A310-27-2092, Revision 02, dated April 11, 2005. Thereafter, repeat the inspections as required by paragraph (g) of this AD. Before further flight, replace any cracked transmission shaft discovered during any inspection required by this AD with a new or reconditioned shaft in accordance with the Accomplishment Instructions of Airbus Service Bulletin A310-27-2095, dated March 29, 2000.

(1) Within 2,000 flight hours after the last flap asymmetry protection test performed in accordance with Maintenance Planning Document (MPD) task 275600-01-1.

(2) Within 8,000 flight cycles after the last flap asymmetry protection test performed in accordance with MPD task 275600-02-1 or 800 flight cycles after the effective date of this AD, whichever comes later.

Note 1: Airbus Service Bulletin A310-27-2092, Revision 02, dated April 11, 2005, refers to Lucas Liebherr Service Bulletin 551A-27-624, Revision 1, dated August 18, 2000, as an additional source of service information for accomplishing the inspections.

Note 2: Airbus Service Bulletin A310-27-2092, Revision 02, refers to Airbus Service Bulletin A310-27-2095, dated March 29, 2000, as a source of service information for replacing the flap transmission shafts.

Note 3: Airbus Service Bulletin A310-27-2095 refers to Lucas Liebherr Service Bulletin 551A-27-M551-05, dated January 12, 2000, as an additional source of service information for replacing the flap transmission shafts.

Repetitive Inspections

(g) Repeat the inspection required by paragraph (f) of this AD at the applicable times specified in paragraph (g)(1), (g)(2), and (g)(3) of this AD.

(1) Before further flight after any occurrence of jamming of the flap transmission system.

(2) At intervals not to exceed 2,000 flight hours after each flap asymmetry protection test performed in accordance with MPD task 275600-01-1.

(3) At intervals not to exceed 8,000 flight cycles after each flap asymmetry protection test performed in accordance with MPD task 275600-02-1.

Optional Terminating Action

(h) Replacing any flap transmission shaft with a new or reconditioned transmission shaft in accordance with the Accomplishment Instructions of Airbus Service Bulletin A310-27-2095, dated March 29, 2000, ends the inspections required for that transmission shaft only.

Actions Performed Using Previously Issued Service Information

(i) Actions performed in accordance with Airbus Service Bulletin A310-27-2092, dated April 9, 1999, or Revision 01, dated December 11, 2001, are considered acceptable for compliance with the corresponding requirements of this AD.

Alternative Methods of Compliance (AMOCs)

(j)(1) The Manager, International Branch, ANM-116, FAA, Transport Airplane Directorate, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(k) French airworthiness directive F-2005-174, dated October 26, 2005, also addresses the subject of this AD.

Issued in Renton, Washington, on February 28, 2006.
Kalene C. Yanamura,
Acting Manager, Transport Airplane Directorate, Aircraft Certification Service.

[FR Doc. E6-3345 Filed 3-8-06; 8:45 am]

BILLING CODE 4910-13-P